DEPARTMENT OF HOMELAND SECURITY

Citizenship and Immigration Services

Agency Information Collection Activities: Business Transformation—Automated Integrated Operating Environment (IOE), New Information Collection; Comment Request

ACTION: 30-Day notice of information collection under review: Business Transformation—Electronic Immigration System (ELIS).

SUMMARY: In accordance with the Paperwork Reduction Act of 1995 (PRA), on March 28, 2011, USCIS published a 60-day notice in the Federal Register at 76 FR 1745, seeking comment on USCIS's information collection request for the Automated Integrated Operating Environment (IOE). The comment period expired May 27, 2011. USCIS is reviewing all comments received and will address those comments in a separate notice. USCIS has decided to change the name of the IOE to the USCIS “Electronic Immigration System” (ELIS). This notice provides the general public and Federal agencies with notice of the name change to the information collection request. The name change does not materially change the collection that was posted for comment.

DATES: Interested persons are invited to submit comments on or before November 14, 2011.

ADDRESSES: Written comments and/or suggestions regarding the item(s) contained in this notice, especially regarding the estimated public burden and associated response time, should be directed to the Department of Homeland Security (DHS), USCIS, Chief, Regulatory Products Division, Office of the Executive Secretariat, 20 Massachusetts Avenue, NW., Washington, DC 20529-2020. Comments may also be submitted to DHS via facsimile to 202-272-0997 or via e-mail at USCISFRComment@dhs.gov. When submitting comments by e-mail, please be sure to add “USCIS ELIS” in the subject box. Please do not submit requests for individual case status inquiries to this address. If you are seeking information about the status of your individual case, please check “My Case Status” online at: https://egov.uscis.gov/cris/Dashboard.do, or call the USCIS National Customer Service Center at 1-800-375-5283. If you need a copy of this information collection instrument, please visit the Web site at: http://www.regulations.gov/or call the Regulatory Products Division at (202) 272-8377.

Background

U.S. Citizenship and Immigration Services (USCIS) is transforming its business processes and systems to improve operational efficiency and customer service, and to strengthen the security and integrity of the immigration system. As part of this effort, USCIS may modify its data collection practices to eventually convert all data collections to e-filing in the USCIS ELIS. The intent of this change is to improve the consistency and timeliness of its immigration benefit adjudications, as well as to support identity management, evaluate benefit eligibility, promote customer service, and manage national security and benefit risk. This change will also serve to bring USCIS in to compliance with the Government Paperwork Elimination Act (GPEA), Public Law 105-277, tit. XVII, section 1703, 112 Stat. 2681, 2681-749 (Oct. 21, 1998), 44 U.S.C. 3504 note, and the E-Government Act of 2002 (Pub. L. 107-347, 116 Stat. 2899, 44 U.S.C. 3601 note). GPEA provides that Federal agencies use electronic forms, electronic filing, and electronic submissions, when possible, to conduct agency business with the public. The E-Government Act promotes the use of the Internet by federal agencies through efforts like USCIS' Business Transformation initiative.

The USCIS ELIS will be implemented by USCIS and made available in increments for the public to submit various benefit requests over the next few years USCIS has termed these increments “releases” and “phases.” As each phase is implemented, DHS will announce each benefit request type that has been converted to an e-filing format in the USCIS ELIS, if the USCIS ELIS will be the sole filing option available, or if the option of filing a paper form will remain available for that benefit for all or certain groups that may seek to submit the applicable request. In general, the USCIS ELIS will follow the immigration “lifecycle” to first include nonimmigrant benefits, proceeding eventually to applications for naturalization.

The first benefit type available in the automated USCIS ELIS under Release A, Phase 1, will be the Application to Extend/Change Nonimmigrant Status. Beginning in December 2011, USCIS customers will be able to apply for an extension or change of their nonimmigrant status using the USCIS ELIS or continue to use the current paper Form I-539 (OMB Control No. 1615-0003). In the future, however, USCIS may allow the current paper Form I-539 to expire, eliminate the option of filing on a paper form, and instead require this benefit application to be filed through the automated USCIS ELIS. USCIS is very interested in receiving comments concerning mandatory e-filing of this benefit and any future benefits that are added to the automated ELIS. USCIS also welcomes comments on which groups, individuals, or businesses for which it would be the most appropriate for USCIS to require (or not require) electronic filing of all benefit requests.

The supporting statement for this information collection contains a more detailed description of the USCIS Business Transformation initiative and wizard technology. The supporting statement can be viewed at: http://www.regulations.gov/.

USCIS is also interested in public comment addressing the following issues:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New information collection.

(2) Title of the Form/Collection: Business Transformation—USCIS Electronic Immigration System (ELIS).

(3) Agency Form Number, if any, and the Applicable Component of the Department of Homeland Security Sponsoring the Collection: No form number; U.S. Citizenship and Immigration Services (USCIS).

(4) Affected Public Who Will Be Asked or Required to Respond, as Well as a Brief Abstract: Primary: Individuals or households. As part of the Business Transformation initiative, USCIS is developing an automated Electronic Immigration System (USCIS ELIS). The USCIS ELIS will use wizard technology and will allow e-filing. Wizard technology gives USCIS the ability to electronically interact with its customers by guiding them through the application process and assisting them to file complete and accurate benefit requests.

(5) An Estimate of the Total Number of Respondents and the Amount of Time Estimated for an Average Respondent to Respond: 58,500 responses at an average of 2 hours and 15 minutes per response.

(6) An Estimate of the Total Public Burden (In Hours) Associated With the Collection: 131,625 annual burden hours.

The information collection request contains selected screen shots that demonstrate the look and feel of the automated USCIS ELIS, and a decision tree to show the sequence of questions that the public will be asked by the wizard and the order in which the questions will be asked. For example, when the user answers the question “What is your First Name?” then he or she will be prompted with the question: “What is your Given Name?” If you need to review this information collection instrument, please visit the Web site at: http://www.regulations.gov/.

Dated: October 11, 2011.
Sunday Aigbe,
Chief, Regulatory Products Division, Office of the Executive Secretariat, U.S. Citizenship and Immigration Services, Department of Homeland Security.

[FR Doc. 2011-26653 Filed 10-13-11; 8:45 am]

BILLING CODE 9111-97-P